DEPARTMENT OF COMMERCE

Submission for OMB Review; Comment Request

DOC has submitted to the Office of Management and Budget (OMB) for clearance the following proposal for collection of information under the provisions of the Paperwork Reduction Act of 1995, Public Law 104-13.

Bureau: International Trade Administration.

Title: Export Trading Companies Contact Facilitation Service.

Agency Form Number: ITA 4094P.

OMB Number: 0625-0120.

Type of Request: Regular Submission.

Burden: 3,625 hours.

Number of Respondents: 14,500.

Avg. Hours Per Response: 15 minutes.

Needs and Uses: Many U.S. firms do not export because of a fear of the risks involved in exporting, lack of knowledge about the international marketplace, and insufficient resources. These firms need a venue to find one another and share the risks and costs of exporting, and they need the assistance of companies that specialize in providing export trade facilitation services. The Export Trading Company Act of 1982 directs the U.S. Department of Commerce to (a) encourage the formation of export associations and export service firms, and (b) provide an exporter referral service that will facilitate contact between producers and export service firms. Commerce fulfills its mandate through the Contact Facilitation Service (CFS). The CFS provides a platform for producers to (a) find one another and form export alliances, to achieve economies of scale, and (b) locate export service firms and attract foreign importers.

The CFS registration form is currently available on-line via the Internet at http://www.myexports.com and in hard copy. MyExports®, a U.S. Department of Commerce public-private partnership, produces two directories that draw upon CFS data collection: (a) “The Export Yellow Pages® ;” (also known as the “U.S. Exporters' Yellow Pages® ”), a directory of U.S. producers of goods and services, and (b) the “U.S. Trade Assistance Directory,” a directory of export trade facilitation firms. These directories are accessible via the Internet at http://www.myexports.com and in print by international traders located worldwide.

Without the subject information collection, the Contact Facilitation Service provided through the MyExports' public-private partnership would be unreliable and ineffective, because users of this kind of information need current and consistent information about the listed companies.

Affected Public: Businesses or other for-profit, not-for-profit institutions, state, local or tribal Governments.

Frequency: On Occasion.

Respondent's Obligation: Required to obtain or retain a benefit, voluntary.

OMB Desk Officer: David Rostker, (202) 395-7340.

Copies of the above information collection proposal can be obtained by calling or writing Diana Hynek, Departmental Paperwork Clearance Officer, Department of Commerce, Room 6625, 14th and Constitution, NW., Washington, DC 20230. Email: dHynek@doc.gov. Phone: (202) 482-0266.

Written comments and recommendations for the proposed information collection should be sent to David Rostker, OMB Desk Officer, David_Rostker@omb.eop.gov or fax (202) 395-7285 within 30 days of the publication of this notice in the Federal Register.

Dated: July 28, 2005.
Madeline Clayton,
Management Analyst, Office of the Chief Information Officer.

[FR Doc. 05-15266 Filed 8-2-05; 8:45 am]

BILLING CODE 3510-DR-P